DEPARTMENT OF ENERGY

Federal Energy Regulatory Commission

[Docket Nos. CP15-18-000; CP15-18-001; CP15-498-000]

Eastern Shore Natural Gas Company; Notice of Revised Schedule for Environmental Review of the White Oak Mainline Expansion Project and System Reliability Project

This notice identifies the Federal Energy Regulatory Commission staff's revised schedule for the completion of the environmental assessment (EA) for Eastern Shore Natural Gas Company's (Eastern Shore) White Oak Mainline Expansion Project and System Reliability Project. The original notice of schedule, issued on February 10, 2016, identified April 12, 2016 as the EA issuance date. However, staff has revised the schedule for issuance of the EA.

Schedule for Environmental Review
Issuance of EA | April 25, 2016.
90-Day Federal Authorization Decision Deadline | July 24, 2016.

If a schedule change becomes necessary, an additional notice will be provided so that the relevant agencies are kept informed of the projects' progress.

Additional Information

In order to receive notification of the issuance of the EA and to keep track of all formal issuances and submittals in specific dockets, the Commission offers a free service called eSubscription (http://www.ferc.gov/docs-filing/esubscription.asp). Additional information about the project may be obtained by contacting the Environmental Project Manager, Gertrude Johnson, by telephone at 202-502-6692 or by electronic mail at gertrude.fernandez.johnson@ferc.gov.

Dated: March 2, 2016.
Nathaniel J. Davis, Sr.,
Deputy Secretary.

[FR Doc. 2016-05097 Filed 3-7-16; 8:45 am]

BILLING CODE 6717-01-P